DEPARTMENT OF JUSTICE

Notice of Filing of Proposed Amendment to the Consent Decree Between the United States, the State of New Jersey, and PSEG Fossil LLC To Resolve Certain Alleged Violations of the Clean Air Act

Notice is hereby given that on November 30, 2006, the United States filed with the United States District Court for the District of New Jersey, in Case No. 02-CV-340, a motion for judicial approval of a proposed amendment (“Amendment”) to the consent decree entered on July 26, 2002 (the “Consent Decree”) which resolved certain claims of the United States and New Jersey against PSEG Fossil LLC (“PSEG”) under the Prevention of Significant Deterioration and New Source Review provisions of the Clean Air Act, 42 U.S.C. 7470-7492.

The Amendment follows a request by PSEG for additional time in which to install and commence operation of the pollution control technologies specified in the Consent Decree at Unit 2 of its Hudson plant, the largest coal-fired electricity generating unit in PSEG's New Jersey fleet. In exchange for allowing PSEG to follow a revised compliance schedule that will delay the installation of controls at this unit, the United States and New Jersey have secured commitments from PSEG to install and operate emission controls and implement emission reductions measures at this unit and at other units in the PSEG system to ensure that the Amendment's emission reductions are equivalent to, and certain aspects superior to, the original Consent Decree. the proposed amendment also requires PSEG to pay a civil penalty of $6 million for PSEG's failure to timely comply with the Consent Decree's schedule for installing and operating the emission controls at Hudson Unit 2. In addition, the Amendment requires PSEG to spend $3.25 million on environmentally beneficial projects in New Jersey. The State of New Jersey is a signatory to the Consent Decree and the proposed Amendment.

The Department of Justice will receive for a period of thirty (30) days from the date of this publication comments relating to the proposed Amendment. Comments should be addressed to the Assistant Attorney General, Environment and Natural Resources Division, P.O. Box 7611, U.S. Department of Justice, Washington, DC 20044-7611, and should refer to United States v. PSEG Fossil LLC, D.J. Ref. No. 90-5-2-1-1866/1.

The proposed Amendment, as well as a copy of the original Consent Decree cross-referenced in the Amendment, may be examined at the Office of the United States Attorney, District of New Jersey, Peter Rodino Federal Building, 970 Broad Street, 7th Floor, Newark, New Jersey 07102, and at U.S. EPA Region II, 290 Broadway, New York, New York 10007. During the public comment period, the proposed Amendment and the Consent Decree may also be examined on the following Department of Justice Web site, http//www.usdoj.gov/enrd/Consent_Decrees.html. In addition, a copy of the proposed Amendment and the Consent Decree may also be obtained by faxing or e-mailing a request to Tonia Fleetwood (tonia.fleetwood@usdoj.gov), fax no. (202) 514-0097, phone confirmation number (202) 514-1547. In requesting a copy of the Amendment from the Consent Decree Library, please enclose a check in the amount of $8 (25 cents per page reproduction cost) payable to the U.S. Treasury. In requesting a copy of the original Consent Decree from the Consent Decree Library, please enclose a check in the amount of $17.25 (25 cents per page reproduction cost) payable to the U.S. Treasury.

W. Benjamin Fisherow,
Deputy Chief, Environmental Enforcement Section, Environment and Natural Resources Division.

[FR Doc. 06-9669 Filed 12-13-06; 8:45 am]

BILLING CODE 4410-15-M